DEPARTMENT OF VETERANS AFFAIRS

Notice of Intent To Grant an Exclusive License

AGENCY: Department of Veterans Affairs, Office of Research and Development.

ACTION: Notice of intent.

SUMMARY: Notice is hereby given that the Department of Veterans Affairs, Office of Research and Development, intends to grant to Three Rivers Holdings, LLC, 1826 W. Broadway Rd., Suite 43, Mesa, AZ, USA an exclusive license to practice U.S. Patent Application Serial No.10/316,087 filed December 11, 2002, entitled “Oblique Angled Suspension Caster Fork for Wheelchairs”.

DATES: Comments must be received within fifteen (15) days from the date of this published Notice.

ADDRESSES: Send comments to: Sal Sheredos, Acting Director of Technology Transfer, Department of Veterans Affairs; Office of Research and Development Attn: 12TT; 810 Vermont Avenue, NW., Washington, DC 20420. Telephone: (202) 254-0255; Facsimile: (202) 254-0473; e-mail: saleem@vard.org.

FOR FURTHER INFORMATION CONTACT: Copies of the published patent applications may be obtained from the U.S. Patent and Trademark Office at http://www.uspto.gov.

SUPPLEMENTARY INFORMATION: It is in the public interest to so license this invention as Three Rivers Holdings, LLC, submitted a complete and sufficient application for a license. The prospective exclusive license will be royalty-bearing and will comply with the terms and conditions of 35 U.S.C. 209 and 37 CFR 404.7. The prospective exclusive license may be granted unless, within fifteen (15) days from the date of this published Notice, the Department of Veterans Affairs Office of Research and Development receives written evidence and argument which establishes that the grant of the license would not be consistent with the requirements of 35 U.S.C. 209 and 37 CFR 404.7.

Approved: February 24, 2005.
R. James Nicholson,
Secretary of Veterans Affairs.

[FR Doc. 05-4077 Filed 3-2-05; 8:45 am]

BILLING CODE 8320-01-P